DEPARTMENT OF ENERGY

Federal Energy Regulatory Commission

Combined Notice of Filings #2

Take notice that the Commission received the following electric rate filings:

Docket Numbers: ER12-2145-004; ER10-2834-004; ER11-2905-003; ER11-2904-003; ER10-2821-004; ER12-1329-002.

Applicants: EC&R O&M, LLC, Munnsville Wind Farm, LLC, Pioneer Trail Wind Farm, LLC, Settlers Trail Wind Farm, LLC, Stony Creek Wind Farm, LLC, Wildcat Wind Farm I, LLC.

Description: EC&R O&M, LLC, et al. submits Notice of Change in Status.

Filed Date: 11/25/13.

Accession Number: 20131125-5125.

Comments Due: 5 p.m. ET 12/16/13.

Docket Numbers: ER14-459-000.

Applicants: PJM Interconnection, L.L.C.

Description: Notice of Cancellation of Original Service Agreement No. 3396; Queue No. V4-009 to be effective 11/25/2013.

Filed Date: 11/25/13.

Accession Number: 20131125-5046.

Comments Due: 5 p.m. ET 12/16/13.

Docket Numbers: ER14-460-000.

Applicants: Appalachian Power Company.

Description: 20131125 TNC Att K L Update to be effective 12/27/2013.

Filed Date: 11/25/13.

Accession Number: 20131125-5078.

Comments Due: 5 p.m. ET 12/16/13.

Docket Numbers: ER14-461-000.

Applicants: New York Independent System Operator, Inc.

Description: NYISO tariff revision deletion of MST Attachment M-1 to be effective 1/29/2014.

Filed Date: 11/25/13.

Accession Number: 20131125-5107.

Comments Due: 5 p.m. ET 12/16/13.

Docket Numbers: ER14-462-000.

Applicants: Trans Bay Cable LLC.

Description: Trans Bay Cable LLC submits TRBAA Update Filing to be effective 1/1/2014.

Filed Date: 11/25/13.

Accession Number: 20131125-5171.

Comments Due: 5 p.m. ET 12/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2013.
Nathaniel J. Davis, Sr.,
Deputy Secretary.

[FR Doc. 2013-28923 Filed 12-3-13; 8:45 am]

BILLING CODE 6717-01-P